DEPARTMENT OF HEALTH AND HUMAN SERVICES

Centers for Disease Control and Prevention

[30Day-15-15MZ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an email to omb@cdc.gov. Send written comments to CDC Desk Officer, Office of Management and Budget, Washington, DC or by fax to (202) 395-5806. Written comments should be received within 30 days of this notice.

Proposed Project

Project Title—Digital Media and Tobacco Outcomes Survey—National Center for Chronic Disease Prevention and Health Promotion (NCCDPHP), Centers for Disease Control and Prevention (CDC).

Background and Brief Description

The Centers for Disease Control and Prevention (CDC) requests a one-year OMB approval to conduct a web-based survey of smokers in the United States. This survey will be fielded for purposes of providing CDC with new, timely, and relevant information regarding the efficacy of the digital advertising component of the 2015 National Tobacco Prevention and Control Public Education Campaign (The Campaign). Specifically, CDC will evaluate associations between confirmed exposures to The Campaign's digital and social media advertising and self-reported knowledge, attitudes, beliefs about tobacco use, and smoking-related information-seeking behavior.

This information collection will consist of an online survey of demographically similar comparison groups of Internet users who were exposed or not exposed to campaign advertising through digital and social media during the planned March-July 2015 campaign. Information will be collected about smokers' exposure to campaign digital advertisements and self-reported knowledge, attitudes, and beliefs related to smoking, and smoking-related information seeking. The survey will also measure behaviors related to smoking cessation and intentions to quit smoking. These data will be used to examine the statistical relationships between exposure to the digital campaign and changes in outcome variables of interest. This information collection fills current gaps in CDC's available data for evaluating the digital advertising components of The Campaign which, to date, have been limited to measures of ad reach and do not address digital campaign impacts on smoking-related knowledge, attitudes, and beliefs, intentions, and behaviors related to smoking cessation.

Data will be collected using the comScore Internet panel, a market research company that unobtrusively collects web behavior data on 1+ million U.S. Internet users to measure patterns in consumer behaviors online. As part of their participation, comScore panelists have previously agreed to download software on their computers that enables comScore to passively track their web behavior, including Web sites visited, searches they conduct, purchases they make, and ads that are delivered on sites visited, regardless of whether the ads are clicked or not. These data are then aggregated and weighted to provide estimates of consumer behaviors online. The panel is a convenience sample with panelists largely recruited via nonprobability-based sampling methods (e.g., online ads, partner Web sites). However, a subsample is recruited via random-digit-dialing to calibrate post-stratification weights that comScore uses to generate weighted demographic distributions that are similar to the U.S. Internet population. While our proposed analyses will also utilize such weights, all results will be interpreted in light of the sample source and direct claims of national representation will not be made.

Participation is voluntary and there are no costs to respondents other than their time. The total estimated annualized burden hours are 4,134.

Estimated Annualized Burden Hours
Type of respondent | Form name | Number of respondents | Number of responses per respondent | Average burden per response (in hours)
General Population of Internet Users | Screening and Consent Questionnaire | 50,000 | 1 | 2/60
Eligible participants, ages 18 and older in the U.S | Digital Media and Tobacco Outcomes Questionnaire (Wave 1) | 5,000 | 1 | 20/60
| Digital Media and Tobacco Outcomes Questionnaire (Wave 2) | 2,400 | 1 | 20/60
| Total

Leroy A. Richardson,
Chief, Information Collection Review Office, Office of Scientific Integrity, Office of the Associate Director for Science, Office of the Director, Centers for Disease Control and Prevention.

[FR Doc. 2015-16772 Filed 7-8-15; 8:45 am]

BILLING CODE 4163-18-P